DEPARTMENT OF ENERGY

Federal Energy Regulatory Commission

[Project No. 539-015]

Lock 7 Hydro Partners, LLC; Notice of Intent To Waive Part of the Pre-Filing Three Stage Consultation Process

a. Type of Application: New Major License.

b. Project No.: 539-015.

c. Date Filed: April 30, 2020.

d. Applicant: Lock 7 Hydro Partners, LLC (Lock 7 Hydro).

e. Name of Project: Mother Ann Lee Hydroelectric Station Water Power Project.

f. Location: The project is located on the Kentucky River in Mercer, Jessamine, and Garrard Counties, Kentucky. The project does not occupy federal land.

g. Filed Pursuant to: Federal Power Act 16 U.S.C. 791 (a)-825 (r).

h. Applicant Contact: David Brown Kinloch, Lock 7 Hydro, 414 S Wenzel St., Louisville, Kentucky 40204; (502) 589-0975 or kyhydropower@gmail.com.

i. FERC Contact: Joshua Dub at (202) 502-8138 or joshua.dub@ferc.gov.

j. In a letter filed September 28, 2020, Lock 7 Hydro requested to waive pre-filing consultation sections 16.8(c)(4-9), which require distribution and consultation on a draft license application.

In its request, Lock 7 Hydro indicated that on July 17, 2020, a Certified Letter was sent to all relevant agencies and potentially affected Indian tribes requesting waiver of the second stage consultation requirements. No consulted entities expressed an objection to the Commission granting waiver of second stage consultation. By email dated July 22, 2020, and filed with Lock 7 Hydro's request for waiver, the Kentucky Division of Water indicated that it had no questions or concerns about the proposed waiver.

Pursuant to section 16.8(e)(1) the Commission's regulations, waiver of second stage consultation may be granted if a resource agency or Indian tribe waives in writing compliance with consultation requirements. Because no agencies or tribes expressed an objection to the request for this waiver, we intend to waive the second stage consultation requirement.

Dated: October 26, 2020.
Kimberly D. Bose,
Secretary.

[FR Doc. 2020-24102 Filed 10-29-20; 8:45 am]

BILLING CODE 6717-01-P